DEPARTMENT OF HEALTH AND HUMAN SERVICES

Centers for Medicare & Medicaid Services

[Document Identifiers: CMS-10036]

Agency Information Collection Activities: Proposed Collection; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (the PRA), federal agencies are required to publish notice in the Federal Register concerning each proposed collection of information (including each proposed extension or reinstatement of an existing collection of information) and to allow 60 days for public comment on the proposed action. Interested persons are invited to send comments regarding our burden estimates or any other aspect of this collection of information, including the necessity and utility of the proposed information collection for the proper performance of the agency's functions, the accuracy of the estimated burden, ways to enhance the quality, utility, and clarity of the information to be collected, and the use of automated collection techniques or other forms of information technology to minimize the information collection burden.

DATES: Comments must be received by April 4, 2022.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number: __, Room C4-26-05, 7500 Security Boulevard, Baltimore, Maryland 21244-1850.

To obtain copies of a supporting statement and any related forms for the proposed collection(s) summarized in this notice, you may make your request using one of following:

1. Access CMS' website address at website address at https://www.cms.gov/Regulations-and-Guidance/Legislation/PaperworkReductionActof1995/PRA-Listing.

FOR FURTHER INFORMATION CONTACT: William N. Parham at (410) 786-4669.

SUPPLEMENTARY INFORMATION:

Contents

This notice sets out a summary of the use and burden associated with the following information collections. More detailed information can be found in each collection's supporting statement and associated materials (see ADDRESSES).

CMS-10036—IRF-PAI for the Collection of Data Pertaining to the Inpatient Rehabilitation Facility Prospective Payment System and Quality Reporting Program

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collection

1. Type of Information Collection Request: Extension of a currently approved collection; Title of Information Collection: IRF-PAI for the Collection of Data Pertaining to the Inpatient Rehabilitation Facility Prospective Payment System and Quality Reporting Program; Use: We are requesting an extension of the Inpatient Rehabilitation Facility-Patient Assessment Instrument (IRF-PAI) Version 4.0 that will be effective on October 1, 2022. On November 2, 2021, we issued a final rule (86 FR 62240) which finalized proposed modifications to the effective date for the reporting of measures and certain standardized patient assessment data in the Inpatient Rehabilitation Facility Quality Reporting Program (IRF QRP). Per the final rule CMS will require IRFs to start collecting assessment data using IRF-PAI Version 4.0 beginning October 1, 2022.

The information collection request for IRF PAI 4.0 was re-approved on December 15, 2021 with an October 1, 2022 implementation date. CMS is asking for an extension of the approved IRF-PAI Version 4.0, which expires on December 31, 2022. The burden associated with this requirement is staff time required to complete and encode the data from the IRF-PAI. The burden associated with collecting and transmitting the data is unaffected by the proposed extension to the assessment instrument.

The IRF-PAI is required by the CMS as part of the Inpatient Rehabilitation Facility Prospective Payment System (IRF PPS). CMS uses the data to determine the payment for each Medicare Part A fee-for-service patient and Medicare Part C (Medicare Advantage) admitted to an inpatient rehabilitation unit or hospital. The IRF-PAI is also used to gather data for the IRF Quality Reporting Program (IRF QRP). Form Number: CMS-10036 (OMB control number: 0938-0842); Frequency: Annually; Affected Public: Private Sector: Business and for-profit and Not-for-profit, State, Local or Tribal Government and Federal Government; Number of Respondents: 1,122; Total Annual Responses: 411,622; Total Annual Hours: 704,747. For policy questions regarding this collection, contact Ariel Adams at 410-786-8571.)

Dated: January 28, 2022.
William N. Parham, III,
Director, Paperwork Reduction Staff, Office of Strategic Operations and Regulatory Affairs.

[FR Doc. 2022-02185 Filed 2-2-22; 8:45 am]

BILLING CODE 4120-01-P